DEPARTMENT OF HEALTH AND HUMAN SERVICES

National Institutes of Health

Prospective Grant of an Exclusive License: Anti-Cancer Vaccines

AGENCY: National Institutes of Health, Public Health Service, HHS.

ACTION: Notice.

SUMMARY: This notice, in accordance with 35 U.S.C. 209(c)(1) and 37 CFR Part 404.7(a)(1)(i), announces that the National Institutes of Health, Department of Health and Human Services, is contemplating the grant of an exclusive license to practice the inventions embodied in U.S. Patent Application No. 60/498,238, filed August 26, 2003, entitled “Anti-cancer Vaccines” (E-179-2004/0-US-01); U.S. Patent Application No. 10/926,852, filed August 26, 2004, entitled “Anti-cancer Vaccines” (E-179-2004/0-US-03); and PCT Application No. PCT/US04/27790, filed August 26, 2004, entitled “Anti-cancer Vaccines” (E-179-2004/0-PCT-02), to Vaccine Company, having a place of business in Carmel-by-the-Sea, California. The patent rights in these inventions have been assigned to the United States of America and MD Anderson Cancer Center (Part of the University of Texas System).

The prospective exclusive license territory may be worldwide, and the field of use may be limited to development and sale of diagnostic and pharmaceutical products useful in diagnosis and treatment of myeloid neoplasms.

DATES: Only written comments and/or license applications which are received by the National Institutes of Health on or before October 3, 2005 will be considered.

ADDRESSES: Requests for copies of the patent and/or patent applications, inquiries, comments and other materials relating to the contemplated exclusive license should be directed to: Mojdeh Bahar, J.D., Technology Licensing Specialist, Office of Technology Transfer, National Institutes of Health, 6011 Executive Boulevard, Suite 325, Rockville, MD 20852-3804; Telephone: (301) 435-2950; Facsimile: (301) 402-0220; E-mail: baharm@od.nih.gov.

SUPPLEMENTARY INFORMATION: This technology is directed to the use of tumor-associated HLA-restricted antigens (peptides from proteinase-3 or myeloperoxidase) as vaccines for treating or preventing cancer, autoimmune diseases and transplant rejection. The technology is more specifically directed to the use of peptides, such as PR1, derived from proteinase-3 (a myeloid tissue-restricted protein) as vaccine to elicit PR1-specific cytotoxic T lymphocytes. The technology encompasses the use of PR1 and other peptides in the treatment of acute and chronic myelogenous leukemia (AML & CML), and myelodysplastic syndrome. Such treatment could result in prolonged remissions or cure in patients who are otherwise refractive to treatment.

The prospective exclusive license will be royalty-bearing and will comply with the terms and conditions of 35 U.S.C. 209 and 37 CFR 404.7. The prospective exclusive license may be granted unless within sixty (60) days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: July 26, 2005.
Steven M. Ferguson,
Director, Division of Technology Development and Transfer, Office of Technology Transfer, National Institutes of Health.

[FR Doc. 05-15344 Filed 8-2-05; 8:45 am]

BILLING CODE 4140-01-P